DEPARTMENT OF ENERGY

Invitation for Public Comment To Inform the Design of a Consent-Based Siting Process for Nuclear Waste Storage and Disposal Facilities

AGENCY: Fuel Cycle Technologies, Office of Nuclear Energy, Department of Energy.

ACTION: Notice of Invitation for Public Comment (IPC).

SUMMARY: The U.S Department of Energy (DOE) is implementing a consent-based siting process to establish an integrated waste management system to transport, store, and dispose of commercial spent nuclear fuel and high level defense radioactive waste. In a consent-based siting approach, DOE will work with communities, tribal governments and states across the country that express interest in hosting any of the facilities identified as part of an integrated waste management system. As part of this process, the Department wants public input on implementing this system. In order to solicit public feedback, DOE is submitting this Invitation for Public Comment (IPC). Through this IPC, we are requesting feedback from communities, states, Tribes, and other interested stakeholders on how to design a consent-based siting process. In addition, the Department intends to host a series of public meetings to engage communities and discuss the development of a consent-based approach to managing our nation's nuclear waste.

DATES: Written comments will be accepted beginning December 23, 2015 through June 15, 2016. Separate announcements will be made for each public meeting.

ADDRESSES: You may submit questions or comments by any of the following methods:

Email: Responses may be provided by email to consentbasedsiting@hq.doe.gov. Please include “Response to IPC” in the subject line.

Mail: Responses may be provided by mail to the following address: U.S. Department of Energy, Office of Nuclear Energy, Response to IPC, 1000 Independence Ave SW., Washington, DC 20585.

Fax: Responses may be faxed to 202-586-0544. Please include “Response to IPC” on the fax cover page.

Online: Responses will be accepted online at www.regulations.gov.

FOR FURTHER INFORMATION CONTACT: Requests for further information should be sent to consentbasedsiting@hq.doe.gov. Please include “Question on IPC” in the subject line.

SUPPLEMENTARY INFORMATION:

Background

Electricity generated by nuclear energy has powered homes, schools, and industry in the United States since the 1950s. Nuclear material is used to power naval vessels and was used to build the U.S. nuclear weapon stockpile during the Cold War. These activities have generated spent nuclear fuel (SNF) and high-level radioactive waste (HLW).

Isolating and containing this radioactive waste is necessary to ensure the long-term safety and security of the public and environment. Though the Cold War ended a quarter century ago and commercial nuclear power has been generated for over half a century, the country still lacks a permanent disposal solution for SNF and HLW. Instead, commercial SNF is stored at operating and shutdown reactor sites around the country while HLW from defense activities resides at Department of Energy sites. Previous attempts to develop long-term solutions for storage and disposal of this waste have resulted in controversy, litigation, protracted delays, and ultimately a failure to address the problem.¹

¹ Blue Ribbon Commission on America's Nuclear Future, Report to the Secretary of Energy, January 2012. http://energy.gov/ne/downloads/blue-ribbon-commission-americas-nuclear-future-report-secretary-energy.

Failure to dispose of nuclear waste has proven costly for energy ratepayers and taxpayers who are paying for the inability of the government to meet federal waste management commitments. States, Tribes, and others in the public carry the undue burden of hosting radioactive waste they were promised was only temporary.² Collectively, we have the responsibility to dispose of waste using a process that is fair to present and future generations. We must live up to our obligations and develop a lasting solution.

² Ibid.

Purpose

The purpose of this IPC is to seek input on the elements that the Department of Energy should consider in the development of a consent-based siting process. As reflected in the Administration's Strategy for the Management and Disposal of Used Nuclear Fuel and High-Level Waste (Strategy),³ the Department concurs with the recommendation from the Blue Ribbon Commission on America's Nuclear Future that a phased, adaptive, consent-based siting process is the best approach to gain the public trust and confidence needed to site nuclear waste facilities. As the Department begins to consider a process for consent-based siting, we want to hear from all interested parties.

³ Strategy for the Management and Disposal of Used Nuclear Fuel and High-Level Radioactive Waste, January 2013. http://www.energy.gov/downloads/strategy-management-and-disposal-used-nuclear-fuel-and-high-level-radioactive-waste.

The Administration's Strategy envisioned the implementation of an integrated waste management system consisting of a range of nuclear waste facilities, each serving a specific role, to address the challenges facing the U.S. These nuclear waste facilities could include:

• A pilot interim storage facility with limited capacity capable of accepting used nuclear fuel and high-level radioactive waste and initially focused on serving shut-down reactor sites;

• A larger, consolidated interim storage facility, potentially co-located with the pilot facility and/or with a geologic repository, that provides the needed flexibility in the waste management system and allows for important near-term progress in implementing the federal commitment;

• Deep borehole disposal, which could be an option for disposal of smaller and more compact waste forms currently stored at Department of Energy sites;

• A permanent geologic repository for the disposal of defense high-level waste and, potentially, some DOE-managed spent nuclear fuel, which would be generally less radioactive, cooler, and easier to handle, enabling a simpler design and earlier availability; and

• A permanent geologic repository for the disposal of commercial spent nuclear fuel.

In early to mid-2016, the Department of Energy will host a series of public meetings to receive input for the design of a consent-based siting process. This IPC announces the Department's intention to hold meetings and to request input about what considerations are important when designing a fair and effective process for consent-based siting. Written input as well as feedback from public meetings will enable the Department to draft the initial steps on a proposal for a phased, adaptive, consent-based process for selecting sites.

Moving forward, the Department of Energy will draw upon extensive experience in storage, transportation, siting, policy, legislative, and regulatory issues both in the U.S. and elsewhere. A top priority is to build upon and improve existing relationships with states, Tribes, communities, and stakeholders to help identify important considerations, challenges, and opportunities for discussion.

Questions for Input

(1) How can the Department of Energy ensure that the process for selecting a site is fair?

Consent based siting seeks to ensure fairness in the distribution of costs, benefits, risks and responsibilities now and in future generations. How, in your view, can fairness be best assured by the process for selecting a site?

(2) What models and experience should the Department of Energy use in designing the process?

The challenges and opportunities of site selection drive us to continue to learn from previous or ongoing examples. From your perspective, what experience and models do you think are the most relevant to consider and draw from in designing the process for selecting a site?

(3) Who should be involved in the process for selecting a site, and what is their role?

The Department believes that there may be a wide range of communities who will want to learn more and be involved in selecting a site. Participation in the process for selecting a site carries important responsibilities. What are your views on who should be involved and the roles participants should have?

(4) What information and resources do you think would facilitate your participation?

The Department of Energy is committed to ensuring that people and communities have sufficient information and access to resources for engaging fully and effectively in siting. What information and resources would be essential to enable you to learn the most about and participate in the siting process?

(5) What else should be considered?

The questions posed in this document are a starting point for discussion on the design of the process for consent-based siting of nuclear waste facilities, the Department of Energy would like to hear about and discuss any related questions, issues, and ideas that you think are important.

Next Steps

Written comments from this IPC, along with input from public meetings, will be documented in a draft report scheduled to be released in summer 2016. The Department is planning to solicit comments on the draft report in order to ensure the content accurately reflects input received.

If you are unable to attend a public meeting or would like to further discuss ideas for consent-based siting, please propose an opportunity for us to speak with you. The Department will do its best to accommodate requests and help arrange additional opportunities to engage. To learn more about nuclear energy, nuclear waste, and ongoing technical work please see energy.gov/consentbasedsiting.

Submitting Comments

Instructions: Submit comments via any of the mechanisms set forth in the ADDRESSES section above. Respondents are requested to provide the following information at the beginning of their response to this IPC:

State, tribal, community, organization, public or individual name;

State, tribal, community, organization, public or individual point of contact; and

Point of contact's address, phone number, and email address.

If an email or phone number is included, it will allow the DOE to contact the commenter if questions or clarifications arise. No responses will be provided to commenters in regards to the disposition of their comments. All comments will be officially recorded without change or edit, including any personal information provided. Personal information (other than name) will be protected from public disclosure upon request.

Please identify your answers by responding to a specific question or topic, if possible. Respondents may answer as many or as few questions as they wish. Any additional comments that do not address a particular question should be included at the end of your response to this IPC as “Additional Comments.”

DOE would appreciate early input in order to identify initial interest and concerns, as well as any early opportunities. Amended or revised inputs from commenters are also welcome throughout the comment period to help DOE develop this process. Comments received after the closing date will be considered as the planning process progresses; however, the DOE is only able to ensure consideration of comments received on or before the closing date as the initial phase of the consent based siting process is developed. Subsequent comments and input will also be welcome as DOE views this as a core component of a phased and adaptive consent-based siting process.

Privacy Act: Data collected via the mechanisms listed above will not be protected from the public view in any way.

Issued in Washington, DC, on December 15, 2015.
Andrew Griffith,
Associate Deputy Assistant Secretary for Fuel Cycle Technologies, Office of Nuclear Energy, Department of Energy.

[FR Doc. 2015-32346 Filed 12-22-15; 8:45 am]

BILLING CODE 6450-01-P